NATIONAL SCIENCE FOUNDATION

Agency Information Collection Activities: Comment Request; Inquiry Form To Facilitate Determining Appropriate Type of Proposal for a Prospective Project Submission

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by December 3, 2021 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Inquiry form to facilitate determining appropriate type of proposal for a prospective project submission.

OMB Number: 3145-NEW.

Expiration Date of Approval: Not applicable.

Type of Request: Intent to seek approval to establish an information collection.

Abstract: NSF's Proposal & Award Policies & Procedures Guide (PAPPG) establishes several types of proposal in addition to standard research proposals that deviate from NSF's standard proposal preparation instructions. Several of these proposal types require prospective submitters to first contact an NSF Program Officer with expertise germane to the topic to determine whether the prospective project is appropriate for consideration under the type of proposal.

In FY 2020, the COVID-19 pandemic resulted in a large volume of inquiries and requests, more than 6,000 incoming contacts, to support research outside of standard research proposal mechanisms, particularly RAPID and EAGER proposals. This was the largest and most widespread, but not the only, episode of high-profile, high-volume inquiries related to these proposal types. High levels of interest are also observed after major environmental events such as the 2018 Atlantic hurricane season, the 2014 Ebola outbreak, and the 2011 Tohoku Earthquake and Tsunami. NSF's publication of Dear Colleague Letters announcing interest in particular topics also generates substantial interest in these proposal types.

In all prior cases, however, prospective submitters' initial inquiries have been received into NSF by email and responses are handled by individual NSF staff over phone and email. NSF does not presently have an infrastructure for systematic collection and tracking of inquiries that supports automation of processing and implementation of consistent and coordinated responses. To that end, NSF identified an opportunity to enhance agency operations through streamlining, standardization, and automation by developing a capacity that would support the receipt and handling inquiries from prospective submitters.

In order to increase the agency's capacity, consistency, and efficient coordination of handling these inquires, we are asking prospective submitters to complete a webform containing the following information:

• Project Personnel

○ Name, email address, organization name, NSF ID, and an optional Professional URL for one to five members of the project team.

• NSF Target Units

○ Up to three potentially germane NSF units identified by NSF Directorate and/or NSF Division and/or NSF Funding Opportunity.

• Research Concept Outline

○ Concept Title.

○ Key Terms.

○ Project Synopsis.

○ Relevance to the requested proposal type.

○ References.

The submission of this information by webform provides a simplified and standard mechanism to direct an inquiry to NSF, ensures the submitter includes information relevant to assess appropriateness to proposal type, and supports the development of automations for routing and responding to inquiries. Not only will the collection enhance the efficiency of individual responses, the information provided will enable NSF to monitor the overall volume of these inquiries and assess trends and resourcing in terms of research topics. Finally, in compliance with the Evidence Act of 2019, information collected will be used in satisfying congressional requests, responding to queries from the public, and NSF's Office of the Inspector General, and supporting the agency's policymaking and internal evaluation and assessment needs.

Information collected will include name of the prospective submitters, their affiliated organizations, email addresses, NSF ID, and professional website URL. These personal identifiable information (PII) are collected primarily to track and disambiguate submissions, identify and manage potential conflicts of interest, and allow NSF to respond to the submitters. These PII data will be accessed only by the submitters, the managing Program Officers, and NSF staff or contractors supporting the handling of inquiries or conducting analyses using the data as authorized by NSF. Any public reporting of data will be in aggregate form, and any personal identifiers will be removed.

Use of the Information: The information collected is primarily to aid the agency in determining the appropriateness of a prospective projects for consideration under the proposal type.

Estimate burden on the public: Estimated at 45 minutes, per submission.

Respondents: Researchers seeking determination of appropriate proposal type prior to proposal submission.

Estimated number of respondents: 1500 per year.

Average Time per Reporting: 45 minutes.

Frequency: Open submission.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Please submit one copy of your comments by only one method. All submissions received must include the agency name and collection name identified above for this information collection. Commenters are strongly encouraged to transmit their comments electronically via email. Comments, including any personal information provided become a matter of public record. They will be summarized and/or included in the request for Office of Management and Budget approval of the information collection request.

Dated: September 28, 2021.
Suzanne H. Plimpton,
Reports Clearance Officer, National Science Foundation.

[FR Doc. 2021-21497 Filed 10-1-21; 8:45 am]

BILLING CODE 7555-01-P